DEPARTMENT OF TRANSPORTATION

Federal Highway Administration

Environmental Impact Statement; Nueces and Kleberg Counties, Texas

AGENCY: Federal Highway Administration (FHWA), Department of Transportation.

ACTION: Federal notice of intent to prepare an Environmental Impact Statement (EIS).

SUMMARY: FHWA, on behalf of TxDOT, is issuing this notice to advise the public that an EIS will be prepared for the proposed Regional Parkway-North Padre Island transportation project (CSJ 0916-00-259) located in the City of Corpus Christi in Nueces and Kleberg counties, Texas. The proposed project would explore alternatives including potential route options for a proposed new crossing of the Laguna Madre and an option for improving the existing State Highway (SH) 358/Park Road (PR) 22 corridor, from the Corpus Christi mainland to North Padre Island.

FOR FURTHER INFORMATION CONTACT: Mr. Victor Vourcos, P.E., TxDOT Project Manager, by mail at TxDOT Corpus Christi District Office, c/o Victor Vourcos, 1701 S. Padre Island Dr., Corpus Christi, Texas 78416, by phone at 361-808-2378, and by email at regionalparkway@txdot.gov.

SUPPLEMENTARY INFORMATION: The environmental review, consultation, and other actions required by applicable Federal environmental laws for this project are being, or have been, carried out by TxDOT pursuant to 23 U.S.C. 327 and a Memorandum of Understanding dated December 9, 2019, and executed by FHWA and TxDOT.

The purpose of the project is to improve the resiliency of the existing transportation network by improving access to emergency services, medical facilities, and critical infrastructure especially in times of emergency response, hurricane evacuation, and incident management; facilitate regional mobility, connectivity, and system linkages; address operational and safety issues in the study area; and improve mobility and provide travel options especially during peak-season travel demand.

The proposed project is needed due to lack of resiliency in the existing transportation network; limited routes for traffic traveling to/from Corpus Christi and the Islands, especially during emergencies, incidents, and hurricane evacuations; operational and safety issues in the existing SH 358/PR 22 corridor; and seasonal congestion in the SH 358/PR 22 corridor and other major east-west routes, especially during peak-season travel demand.

The proposed Regional Parkway-North Padre Island Project (CSJ 0916-00-259) would potentially construct a new crossing of the Laguna Madre or improve the existing SH 358/PR 22 alignment, from the Corpus Christi mainland to North Padre Island, in Nueces and Kleberg counties, Texas. The study area for the evaluation of the potential new location roadway alternatives begins at SH 286, crosses the Laguna Madre, and ends at PR 22, on North Padre Island. On North Padre Island, the study area extends south approximately 4 miles southwest of the Nueces/Kleberg County line, ending at the boundary of the Padre Island National Seashore. The study area for the evaluation of potential improvements of existing SH 358 and PR 22 encompasses a 1,000-foot-wide buffer from the intersection at SH 286 to SH 361 on North Padre Island.

The EIS will evaluate a range of build alternatives and a no-build alternative. The five possible build alternatives have been labeled Green, Purple, Orange, Blue, and Pink alternatives.

The Green Alternative would upgrade existing SH 358 along the alignment from SH 286 to Naval Air Station (NAS) Drive and the existing alignment of PR 22 from NAS Drive to SH 361 for approximately 16 miles, which could include a parallel structure over the Laguna Madre.

The Purple Alternative would upgrade and expand existing Yorktown Boulevard with connection on new location to SH 286, with the addition of a second causeway over the Laguna Madre connecting to PR 22 on North Padre Island. The Purple Alternative would be approximately 16 miles in length.

The Orange Alternative would consist of a new location roadway approximately 15 miles in length, originating at the intersection of SH 286 and County Road (CR) 18 in Nueces County.

The Orange Alternative would include a second crossing over the Laguna Madre and upgrade existing Sea Pines Drive, terminating at PR 22 on North Padre Island in Nueces County.

The Blue Alternative would consist of a new location roadway approximately 14 miles in length, originating at the intersection of SH 286 and CR 14 in Nueces County with a second crossing over the Laguna Madre and terminates at PR 22 on North Padre Island in Kleberg County.

The Pink Alternative consists of a new location roadway approximately 13 miles in length, originating at the intersection of SH 286 and Farm-to-Market Road (FM) 70 in Nueces County.

The Pink Alternative alignment includes a second crossing over the Laguna Madre and terminates at PR 22 on North Padre Island in Kleberg County.

The alternatives to be presented in the EIS are a result of previous transportation planning studies conducted throughout the last 30 years which have identified the need for transportation improvements within the Regional Parkway study area.

Impacts caused by the construction and operation of the proposed improvements would vary depending on the selection of the recommended alternative. The recommended alternative may result in impacts to communities and resources including: potential residential and business displacements, including low-income and minority residents; wildlife/habitat (threatened and endangered species); wetlands and waters of the U.S.; coastal resources, floodplain/floodway encroachment; section 4(f) of the U.S. Department of Transportation Act and chapter 26 of the Parks and Wildlife Code (park and recreational lands, wildlife and waterfowl refuges, and historic sites); visual environment; transportation (construction detours, construction traffic, and mobility); air quality and noise from construction equipment and operation of the roadway; hazardous materials sites; land use and farmland; cultural resources; and induced growth and cumulative impacts.

The proposed action may require issuance of an Individual or Nationwide Permit under section 404 of the Clean Water Act, a Permit under section 10 of the Rivers and Harbors Act, a Bridge Permit under section 9 of the Rivers and Harbors Act, section 401 Water Quality Certification, Section 402/Texas Pollution Discharge Elimination System Permit, Texas Antiquities Code Permit; conformance with Executive Orders (E.O.s) on Environmental Justice (E.O. 12898), Limited English Proficiency (E.O. 13166), Wetlands (E.O. 11990), Floodplain Management (E.O. 11988), Invasive Species (E.O. 13112); compliance with section 106 of the National Historic Preservation Act, section 7 of the Endangered Species Act, the Magnuson-Stevens Fishery Conservation and Management Reauthorization Act of 2006, the Marine Mammal Protection Act, the Migratory Bird Treaty Act, section 4(f) of the DOT Act (49 U.S.C. 303), section 6(f) of the Land and Water Conservation Act (16 U.S.C. 4601), title VI of the Civil Rights Act, Coastal Barrier Resources Act of 1982, and other applicable Federal and State regulations.

TxDOT anticipates issuing the Draft EIS for public and agency review in March 2026 and completing the study process with a combined Final EIS and Record of Decision by September 2026.

The following entities have been invited to be cooperating agencies for this EIS: U.S. Army Corps of Engineers, U.S. Coast Guard, U.S. Department of Agriculture Natural Resources Conservation Service, U.S. Department of Housing and Urban Development, U.S. Department of the Navy, U.S. Environmental Protection Agency, Federal Aviation Administration, Federal Emergency Management Agency, Federal Railroad Administration, Federal Transit Administration, U.S. Fish and Wildlife Service, National Marine Fisheries Service, National Park Service, Apache Tribe of Oklahoma, Comanche Nation of Oklahoma, Kiowa Tribe, Mescalero Apache Tribe, Seminole Nation of Oklahoma, and Tonkawa Tribe of Oklahoma.

The following entities have been invited to be participating agencies for this EIS: Railroad Commission of Texas, Texas Coastal Coordination Advisory Committee, Texas Commission on Environmental Quality, Texas Department of Housing and Community Affairs, Texas Division of Emergency Management, Texas General Land Office, Texas Historical Commission/State Historic Preservation Office, Texas Parks and Wildlife Department, City of Corpus Christi, City of Corpus Christi Historic Preservation Office, City of Port Aransas, Coastal Bend Council of Governments, Corpus Christi Metropolitan Planning Organization, Corpus Christi Regional Economic Development Corporation, Corpus Christi Regional Transit Authority, Kleberg County, Kleberg County Historical Commission, Nueces County, Nueces County Historical Commission, Historic Bridge Foundation, and Kenedy County Groundwater Conservation District.

TxDOT will issue a single Final Environmental Impact Statement and Record of Decision document pursuant to 23 U.S.C. 139(n)(2), unless TxDOT determines statutory criteria or practicability considerations preclude issuance of a combined document.

In accordance with 23 U.S.C. 139, cooperating agencies, participating agencies, and the public will be given an opportunity for continued input on project development. An in-person public scoping meeting is planned for Oct. 3, 2024, from 3 to 7 p.m. CT at Mansion Royal, 8001 S. Padre Island Dr., Corpus Christi, Texas 78412. A virtual option will go live at 3 p.m. CT on Oct. 3, 2024 at www.txdot.gov, keyword search “Regional Parkway”. Additional information on both options will be provided at the previously indicated TxDOT website. The public scoping meeting will provide an opportunity for the public to review and comment on the draft coordination plan and schedule, the project purpose and need, the range of alternatives, and methodologies and level of detail for analyzing alternatives. It will also allow the public an opportunity to provide input on any expected environmental impacts, anticipated permits or other authorizations, and any significant issues that should be analyzed in depth in the EIS. In addition to the public scoping meeting, a public hearing will be held after the draft EIS is prepared. Public notice will be given of the time and place of the meeting and hearing.

The public scoping meeting will be conducted in English, with Spanish materials available online and in person. If you need an interpreter or document translator because English is not your primary language or have difficulty communicating effectively in English, one will be provided to you. If you have a disability and need assistance, special arrangements can be made to accommodate most needs. If you need interpretation or translation services or you are a person with a disability who requires an accommodation to attend and participate in the public meeting, please contact Rickey Dailey, TxDOT Corpus Christi District, at rickey.dailey@txdot.gov or please call 361-808-2544 no later than 4 p.m. CT, Sept. 30, 2024. Please be aware that advance notice is required as some services and accommodations may require time for TxDOT to arrange.

The public is requested to provide comments on alternatives or impacts and on relevant information, studies, or analyses with respect to this proposed project. Comments may be provided in writing by mail to TxDOT Corpus Christi District Office, c/o Victor Vourcos, 1701 S. Padre Island Dr., Corpus Christi, Texas 78416, or by email to regionalparkway@txdot.gov. Comments must be received on or before Oct. 18, 2024.

(Catalog of Federal Domestic Assistance Program Number 20.205, Highway Planning and Construction.)

Michael T. Leary,
Director, Planning and Program Development, Federal Highway Administration.

[FR Doc. 2024-20185 Filed 9-6-24; 8:45 am]

BILLING CODE 4910-22-P